FEDERAL COMMUNICATIONS COMMISSION

47 CFR Part 64

[CC Docket No. 94-129; FCC 03-42]

Implementation of the Subscriber Carrier Selection Changes Provisions of the Telecommunications Act of 1996, Policies and Rules Concerning Unauthorized Changes of Consumers' Long Distance Carriers; Correction

AGENCY: Federal Communications Commission.

ACTION: Proposed rule; correction.

SUMMARY: This document corrects the SUPPLEMENTARY INFORMATION section to the proposed rule published in the Federal Register of April 18, 2003, regarding Unauthorized Changes of Consumers' Long Distance Carriers. This correction revises the figures initially given in the SUPPLEMENTARY INFORMATION section.

FOR FURTHER INFORMATION CONTACT: Nancy Stevenson, 202-418-7039.

Correction

In the proposed rule FR Doc. 03-9119, beginning on page 19176, in the issue of April 18, 2003, make the following corrections, in the Supplementary Information section. On page 19177 in the second column, the first full paragraph, correct the following:

Number of Respondents: 28,414.

Estimated Time Per Response: 3.9 hours.

Frequency of Response: On occasion and biennial reporting requirements.

Total annual Burden: 111,076 hours.

Total Annual Costs: None.

Federal Communications Commission.
William F. Caton,
Deputy Secretary.

[FR Doc. 03-11724 Filed 5-9-03; 8:45 am]

BILLING CODE 6712-01-P